DEPARTMENT OF HEALTH AND HUMAN SERVICES

Centers for Disease Control and Prevention

[60Day-20-0214; Docket No. CDC-2020-0037]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on proposed and/or continuing information collections, as required by the Paperwork Reduction Act of 1995. This notice invites comment on the National Health Interview Survey (NHIS). The annual National Health Interview Survey is a major source of general statistics on the health of the U.S. population.

DATES: Written comments must be received on or before June 15, 2020.

ADDRESSES: You may submit comments, identified by Docket No. CDC-2020-0037 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

National Health Interview Survey (NHIS) (OMB No. 0920-0214, Exp. 12/31/2020)—Revision—National Center for Health Statistics (NCHS), Centers for Disease Control and Prevention (CDC).

Background and Brief Description

Section 306 of the Public Health Service (PHS) Act (42 U.S.C.), as amended, authorizes that the Secretary of Health and Human Services (HHS), acting through NCHS, shall collect statistics on the extent and nature of illness and disability of the population of the United States. The annual National Health Interview Survey (NHIS) is a major source of general statistics on the health of the U.S. population and has been in the field continuously since 1957. This voluntary and confidential household-based survey collects demographic and health-related information from a nationally-representative sample of households and noninstitutionalized, civilian persons throughout the country. NHIS data have long been used by government, academic, and private researchers to evaluate both general health and specific issues, such as smoking, diabetes, health care coverage, and access to health care. The survey is also a leading source of data for the Congressionally-mandated “Health US” and related publications, as well as the single most important source of statistics to track progress toward HHS health objectives.

The NHIS sample adult and sample child questionnaires include annual core content that is scheduled to be fielded in the survey every year, rotating content that is fielded periodically, emerging content to address new topics of growing interest, and sponsored content that is fielded when external funding is available. Rotating sample adult and sample child core content that was on the NHIS in 2020 and will rotate off the 2021 NHIS includes dental services, other provider services, and physical activity. Content on walking, sleep, fatigue, smoking history and cessation and alcohol use will also rotate off the sample adult core. Questions on neighborhood characteristics, sleep, screen time, and height and weight will rotate off the sample child core.

The 2021 sample adult and sample child rotating core will include questions about health conditions that were previously fielded in the 2018 NHIS. The 2021 rotating sample adult core will include questions on hearing and communication, psychological distress, chronic pain, preventive screening, and aspirin use. The questions on chronic pain, preventive screening and aspirin use were all previously fielded as part of the 2019 rotating core. Questions on psychological distress and hearing and communication were previously fielded as part of the 2018 NHIS. The 2021 sample child rotating core will include items on stressful life events which were previously fielded in 2019. Sponsored content on asthma will be removed from both the sample adult and sample child questionnaires. Sponsored content on cancer control, immunizations, and diabetes will remain, but the content will change. Sponsored cancer control content on cigarette history, lung cancer screening, environment for walking and sun care and protection will not be on the 2021 NHIS. New sponsored cancer control content will focus on screenings for breast, cervical, prostate, and colon cancer using similar questions to what were used in the 2019 NHIS. Anticipated new sponsored content include questions on epilepsy (previously fielded in 2010, 2013, 2015, and 2017) and occupational health.

Like in past years, and in accordance with the 1995 initiative to increase the integration of surveys within the DHHS, respondents to the 2021 NHIS will serve as the sampling frame for the Medical Expenditure Panel Survey conducted by the Agency for Healthcare Research and Quality. A subsample of NHIS respondents and/or members of commercial survey panels may be identified to participate in short, web-based methodological and cognitive testing activities to evaluate the questionnaire and/or inform the development of new rotating and sponsored content using web and/or mail survey tools. In addition, subsamples of NHIS respondents may be recontacted by web, phone, or mail to ask follow-up questions on topics that are already included in the NHIS. In the future, a subsample of NHIS respondents may also be re-contacted for a brief health exam. There is no cost to the respondents other than their time. Clearance is sought for three years, to collect data for 2021-2023.

Estimated Annualized Burden Hours
Type of respondent | Form name | Number of respondents | Number of responses per respondent | Average burden per response (in hours) | Total burden hours
Adult Household Member | Household Roster | 36,000 | 1 | 5/60 | 3,000
Sample Adult | Adult Questionnaire | 30,000 | 1 | 40/60 | 20,600
Adult Family Member | Child Questionnaire | 10,000 | 1 | 20/60 | 3,334
Adult Family Member | Methodological Projects | 15,000 | 1 | 20/60 | 5,000
Child Family Member | NHIS Follow-up survey | 3,000 | 1 | 20/60 | 1,000
Adult Family Member | Health Exam | 10,000 | 1 | 45/60 | 7,500
Adult Family Member | Reinterview Survey | 5,500 | 1 | 5/60 | 458
Total |  |  |  |  | 40,892

Jeffrey M. Zirger,
Lead, Information Collection Review Office Office of Scientific Integrity Office of Science, Centers for Disease Control and Prevention.

[FR Doc. 2020-07977 Filed 4-15-20; 8:45 am]

BILLING CODE 4163-18-P